DEPARTMENT OF THE INTERIOR

National Park Service

[NPS-IMR-GLAC- 19715; PPIMGLAC4G PPMPSAS1Z.YP0000]

Fisheries Management, Aquatics Restoration, and Climate Change Response Plan, Environmental Impact Statement, Glacier National Park, Montana

AGENCY: National Park Service, Interior.

ACTION: Notice of Intent.

SUMMARY: The National Park Service (NPS) is preparing an Environmental Impact Statement (EIS) for the Fisheries Management, Aquatics Restoration, and Climate Change Response Plan for Glacier National Park, Montana.

DATES: The NPS will accept comments from the public through May 11, 2016.

ADDRESSES: Information will be available for public review and comment online at http://parkplanning.nps.gov/glac, and in the office of the Superintendent, Jeff Mow, Glacier National Park, 1 Going-to-the-Sun Road, West Glacier, Montana 59936.

FOR FURTHER INFORMATION CONTACT: Mary Riddle, Chief of Planning and Compliance, Glacier National Park, P.O. Box 128, West Glacier, Montana 59936; (406) 888-7898.

SUPPLEMENTARY INFORMATION: This planning effort will result in an integrated and adaptive plan that addresses long-term goals for managing, restoring, and protecting the park's native fish and aquatic resources. The EIS will address issues related to the conservation and restoration of native aquatic systems across the park, including ongoing losses of native fish populations (e.g., federally listed threatened bull trout and state listed westslope cutthroat trout) due to invasive non-native fish species; threats to native fish from climate change; opportunities to improve native aquatic ecosystem resilience and provide refugia for native fish from the effects of climate change; and impacts from fisheries management actions to wilderness character in the park's backcountry.

The NPS proposed action includes the following elements: (1) The translocation of native fish to appropriate habitat; (2) the construction of additional fish passage barriers to prevent non-native fish from moving into native fish habitat; and (3) the removal of invasive non-native fish using mechanical (such as netting, trapping, angling, electrofishing) and chemical (poisonous substance used to kill fish; piscicide) methods, where appropriate. Following removal of non-native fish, some waters may be repopulated with species native to the park while others would be left to recover to their historically fishless state. The proposed action will also evaluate the establishment of a fishing permit fee to help fund needed fishery restoration and conservation actions.

The proposed action is the initial NPS proposal to address the purpose and need for taking action. It represents one alternative that will be considered during the EIS process. In addition to the proposed action, the NPS will consider a no-action alternative, an alternative that would include the same elements as the proposed action but use mechanical methods only to remove non-native fish, and an alternative that uses chemical methods only to remove non-native fish. The NPS will also consider other alternatives that are suggested during the scoping period, as appropriate. The NPS will not select an alternative for implementation until after a final EIS is completed.

A scoping brochure will be available that describes the purpose and need for the plan, and the issues and alternatives identified to date. Copies may be obtained from Mary Riddle, Chief of Planning and Compliance, Glacier National Park, P.O. Box 128, West Glacier, Montana 59936; (406) 888-7898. If you wish to comment on the scoping brochure or on any other issues associated with the EIS, you may submit your comments by any one of several methods. You may mail comments to Glacier National Park, Attn: Fisheries Management Plan, P.O. Box 128, West Glacier, Montana 59936; you may comment via the Internet at http://parkplanning.nps.gov/glac you may hand-deliver comments to Glacier National Park Headquarters, West Glacier, Montana; and you may submit comments during public meetings that will be held during the comment period. Information on meeting dates, times, and locations will be included in the public scoping brochure and will also be available at: http://parkplanning.nps.gov/GLAC (click on the project link and then the “meeting notices” tab).

Comments will not be accepted by fax, email, or in any other way than those specified above. Bulk comments in any format and hard copy and electronic comments that are submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: January 1, 2016.
Sue E. Masica,
Regional Director, Intermountain Region, National Park Service.

Editorial Note: This document was received for publication by the Office of the Federal Register on April 6, 2016.

[FR Doc. 2016-08252 Filed 4-8-16; 8:45 am]

BILLING CODE 4312-CB-P